DEPARTMENT OF ENERGY

Federal Energy Regulatory Commission

Combined Notice of Filings

Take notice that the Commission has received the following Natural Gas Pipeline Rate and Refund Report filings:

Filings Instituting Proceedings

Docket Number: PR16-74-000.

Applicants: Orange and Rockland Utilities, Inc.

Description: Tariff filing per 284.123(b)(1), (g): Compliance SOC CP16-101 to be effective 9/29/2016; Filing Type: 1330.

Filed Date: 9/29/2016.

Accession Number: 201609295156 http://elibrary.ferc.gov/idmws/doc_info.asp?accession_num=20160415-5222.

Comments Due: 5 p.m. ET 10/20/16.

284.123(g) Protests Due: 5 p.m. ET 11/28/16.

Docket Number: PR16-75-000.

Applicants: Southern California Gas Company.

Description: Tariff filing per 284.123(b)(1) + (g): So Cal Gas—Rate Change Filing—Sept 2016 to be effective 9/1/2016; Filing Type: 1300.

Filed Date: 9/30/2016.

Accession Number: 201609305001 http://elibrary.ferc.gov/idmws/doc_info.asp?accession_num=20160415-5222.

Comments Due: 5 p.m. ET 10/21/16.

284.123(g) Protests Due: 5 p.m. ET 11/29/16.

Docket Number: PR17-1-000.

Applicants: Columbia Gas of Ohio, Inc.

Description: Tariff filing per 284.123(b)(1)/.: COH SOC Effective 9-28-2016 to be effective 9/28/2016; Filing Type: 980.

Filed Date: 10/3/2016.

Accession Number: 201610035128.

Comments/Protests Due: 5 p.m. ET 10/24/16.

Docket Numbers: RP17-1-000.

Applicants: Equitrans, L.P.

Description: § 4(d) Rate Filing: Negotiated Capacity Release Agreements—10/1/2016 to be effective 10/1/2016.

Filed Date: 10/3/16.

Accession Number: 20161003-5011.

Comments Due: 5 p.m. ET 10/17/16.

Docket Numbers: RP17-2-000.

Applicants: Algonquin Gas Transmission, LLC.

Description: § 4(d) Rate Filing: Negotiated Rate—BP Energy K510941 to be effective 11/1/2016.

Filed Date: 10/3/16.

Accession Number: 20161003-5114.

Comments Due: 5 p.m. ET 10/17/16.

Docket Numbers: RP17-3-000.

Applicants: Enable Gas Transmission, LLC.

Description: Annual Report of Total Penalty Revenue Credits of Enable Gas Transmission, LLC.

Filed Date: 10/3/16.

Accession Number: 20161003-5241.

Comments Due: 5 p.m. ET 10/17/16.

Docket Numbers: RP17-4-000.

Applicants: Enable Gas Transmission, LLC.

Description: Annual Report of Linked Firm Service Penalty Revenue Credits of Enable Gas Transmission, LLC.

Filed Date: 10/3/16.

Accession Number: 20161003-5244.

Comments Due: 5 p.m. ET 10/17/16.

Docket Numbers: RP17-5-000.

Applicants: Colorado Interstate Gas Company, L.L.C.

Description: Annual Report Detailing 2015 Surcharge of Colorado Interstate Gas Company, L.L.C.

Filed Date: 10/3/16.

Accession Number: 20161003-5334.

Comments Due: 5 p.m. ET 10/17/16.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP16-1288-001.

Applicants: Texas Gas Transmission, LLC.

Description: Tariff Amendment: Amendment to Docket No. RP16-1288-000 to be effective 11/1/2016.

Filed Date: 10/3/16.

Accession Number: 20161003-5106.

Comments Due: 5 p.m. ET 10/17/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2016.
Nathaniel J. Davis, Sr.,
Deputy Secretary.

[FR Doc. 2016-24765 Filed 10-12-16; 8:45 am]

BILLING CODE 6717-01-P